DEPARTMENT OF THE INTERIOR

Bureau of Land Management

[LLUT91000-L10400000-PH0000-24-1A]

Notice of Utah's Resource Advisory Council (RAC) Meeting

AGENCY: Bureau of Land Management, Interior.

ACTION: Notice of Utah's Resource Advisory Council (RAC) Meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah RAC will meet Monday, September 13, 2010, from 8 a.m.-4:30 p.m., in the Monument Conference Room at the Bureau of Land Management's Utah State Office.

ADDRESSES: The Bureau of Land Management's Utah State Office is located at 440 West 200 South, Fifth Floor, Salt Lake City, Utah 84101.

FOR FURTHER INFORMATION CONTACT: Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. Planned agenda topics include a welcome and introduction by the BLM's new Utah State Director, Juan Palma; an overview of BLM Utah issues; the history, mandate, and purpose of rapid ecoregional assessments; a discussion on the governor's balanced resources council; an overview of the Rich County Allotment Consolidation Project; a presentation on Energy by Design, by The Nature Conservancy; and, an update on the Wild Horse and Burro Strategy. A half-hour public comment period, where the public may address the Council, is scheduled to begin from 11:30 a.m.-noon. Written comments may be sent to the Bureau of Land Management's address listed above.

Transportation, lodging, and meals are the responsibility of the participating public.

Dated: August 20, 2010.
Approved: Juan Palma,
State Director.

[FR Doc. 2010-21283 Filed 8-25-10; 8:45 am]

BILLING CODE 4310-DQ-P